NUCLEAR REGULATORY COMMISSION

Withdrawal of Regulatory Guide

AGENCY: Nuclear Regulatory Commission.

ACTION: Notice of withdrawal of Regulatory Guide 1.150.

FOR FURTHER INFORMATION CONTACT: Christina Antonescu, Reactor System Engineer, Division of Engineering, Regulatory Guide Development Branch, Office of Nuclear Regulatory Research, U.S. Nuclear Regulatory Commission, Washington, DC 20555-0001, telephone: 301-415-6792 or e-mail: CEA1@nrc.gov.

SUPPLEMENTARY INFORMATION:

I. Introduction

The U.S. Nuclear Regulatory Commission (NRC) is withdrawing without replacement Regulatory Guide (RG) 1.150, “Ultrasonic Testing of Reactor Vessel Welds During Preservice and Inservice Examinations,” which was published in February 1983, because it has been superseded by Title 10 of the Code of Federal Regulations (10 CFR) section 50.55a(g)(6)(ii)(C)(1), “Inservice inspection requirements,” incorporation by reference of an American Society of Mechanical Engineers (ASME) standard.

Specifically, 10 CFR 50.55a(g)(6)(ii)(C)(1) requires both preservice and inservice inspection activities to be performed using personnel, equipment, and procedures qualified in accordance with the ASME, Boiler and Pressure Vessel Code, section XI, Appendix VIII.

II. Further Information

The withdrawal of RG 1.150 does not, in and of itself, alter any prior or existing licensing commitments based on its use. The current version of RG 1.150 represents a method that is no longer acceptable to the staff. RGs may be withdrawn when their guidance is superseded by congressional action, the methods or techniques described in the RG no longer describe an acceptable approach, or the RG does not provide useful information.

RGs are available for inspection or downloading through the NRC's public Web site in the “Regulatory Guides” collection of the NRC's Electronic Reading Room at http://www.nrc.gov/reading-rm/doc-collections. RGs are also available for inspection at the NRC's Public Document Room (PDR), Room O-1F21, One White Flint North, 11555 Rockville Pike, Rockville, Maryland 20852-2738. The PDR's mailing address is U.S. NRC PDR, Washington, DC 20555-0001. The PDR staff can be reached by telephone at 301-415-4737 or 800-397-4209, by fax at 301-415-3548, and by e-mail to pdr@nrc.gov.

RGs are not copyrighted and NRC approval is not required to reproduce them.

Dated at Rockville, Maryland, this 4th day of February, 2008.
For the Nuclear Regulatory Commission.
Andrea D.Valentin,
Chief, Regulatory Guide Development Branch, Division of Engineering, Office of Nuclear Regulatory Research.

[FR Doc. E8-2424 Filed 2-8-08; 8:45 am]

BILLING CODE 7590-01-P